DEPARTMENT OF HOMELAND SECURITY

6 CFR Part 139

RIN 1601-AB17

Protection of Federal Property; Changed Effective Date

AGENCY: Department of Homeland Security.

ACTION: Final rule; change in effective date.

SUMMARY: On June 9, 2025, DHS published a final rule promulgating regulations for the protection of Federal property. That rule set January 1, 2026, as the effective date for those regulations. This final rule changes the effective date for those regulations to November 5, 2025. This final rule makes no other changes.

DATES: This final rule is effective November 5, 2025. The effective date of the final rule published June 9, 2025, at 90 FR 24217, is changed from January 1, 2026, to November 5, 2025.

FOR FURTHER INFORMATION CONTACT: Mr. David Hess, Deputy Director, FPS Policy, Communications and Engagement, 202-447-0800, fpsnprm@fps.dhs.gov.

SUPPLEMENTARY INFORMATION:

I. Background

On June 9, 2025, DHS published a final rule for the protection of federal property (90 FR 24217) (June 2025 rule). That rule implements regulations to protect property and prescribe reasonable penalties for misconduct. Specifically, the June 2025 rule makes the following changes:

• Codifies the full scope of DHS's statutory authority to protect all federal buildings that fall within the jurisdiction of the Department of Homeland Security (DHS), rather than only GSA properties;

• Permits the charging of criminal activity occurring off federal property in accordance with 40 U.S.C. 1315 authority;

• Modifies the list of prohibited conduct to include, among other things, impersonation of security personnel, trespassing into closed areas, the wearing of masks when committing crimes, and tampering with computer systems;

• Updates definitions to account for evolving technologies and emerging threats such as unmanned aircraft and new tobacco products; and

• Clarifies and specifies in more detail the definition of “disorderly conduct.”

DHS set the effective date for the June 2025 rule at January 1, 2026. DHS included that effective date in the regulatory text. See 90 FR 24217, 24218 (Setting forth effective date in 6 CFR 139.5(e)). As DHS explained in the June 2025 rule, the time was necessary to make preparations such as training officers and publishing new signage.

II. Discussion

This final rule moves up the effective date of the June 2025 rule and then amends 6 CFR part 139 to reflect the new effective date. The June 2025 rule set the effective date at January 1, 2026. This final rule amends that effective date to Nov. 5, 2025. Thus, through this final rule, the effective date for the regulations under part 139 is Nov. 5, 2025. Finally, DHS, through this final rule, is also changing 6 CFR 139.5(e)—which originally marked January 1, 2026 as the effective date for the regulations published under part 139 of chapter 1 of title 6 of the Code of Federal Regulations—to now reflect the updated effective date as set forth by this final rule.

III. Administrative Procedure Act

Under the Administrative Procedure Act (APA), agencies must generally provide advance notice and an opportunity for comment before issuing a rule. The APA exempts rules from such notice-and-comment requirements when the agency, for “good cause,” finds that such procedures are impracticable, unnecessary, or contrary to the public interest. See 5 U.S.C. 553(b)(B). In addition, the APA requires agencies to delay the effective date of final rules by at least 30 days. See 5 U.S.C. 553(d).

DHS finds that there is “good cause” to bypass notice-and-comment rulemaking and a delayed effective date, because such procedures are impracticable here.¹ There is an immediate need for DHS to move up the effective date of the June 2025 rule, because of the recent increase in civil unrest, targeting of federal law enforcement officials, and destruction of federal property across U.S. jurisdictions.

¹ The “impracticable” prong of the good cause exception “excuses notice and comment in emergency situations . . . or where delay could result in serious harm.” Jifry v. FAA, 370 F.3d 1174, 1179 (D.C. Cir. 2004) (citations omitted).

Over the last few months, there has been a substantial rise in civil unrest near federal buildings, destruction of federal property, and violence perpetrated against federal officials.² Federal law enforcement officials, people on federal property and federal buildings have been subject to continual attacks, assaults, and even killings. In July of 2025, rioters at an ICE facility in Portland “attacked law enforcement officials, destroyed federal property, and have posted death threats at the facility. Outside of the facility, graffiti on the sidewalk reads `Kill Your Masters'.” ³ In September of 2025, a sniper opened fire at an ICE field office in Dallas Texas, where “[t]he shooter fired indiscriminately at the ICE building . . . Three detainees were shot. One detainee [died], and the other two are in critical condition.” ⁴ More recently in Chicago, assailants attacked law enforcement officers where they “rammed federal agents with their vehicles. The woman . . . driving one of the vehicles, was armed with a semi-automatic weapon and has a history of doxing federal agents.” ⁵ Indeed the Attorney General wrote on September 29, 2025, that “Riots in Los Angeles and Portland reflect a more than 1,000 percent increase in attacks on U.S. Immigration and Customs Enforcement (ICE) officers since January 21, 2025, compared to the same period last year.” ⁶

² Billal Rahman, Hundreds of Anti-ICE Protesters Storm Facility, Newsweek (Jun. 19, 2025), https://www.newsweek.com/anti-ice-protests-immigration-portland-2088048; Madison Colombo, ICE director reveals dangerous nightly Antifa `battle' as Trump prepares federal deployment to Portland, Fox News (Oct. 2, 2025), https://www.foxnews.com/media/ice-director-reveals-dangerous-nightly-antifa-battle-trump-prepares-federal-deployment-portland; Adam Sabes, Blue city officers open to feds' help fighting crime crisis as leaders spew `anti-police rhetoric': union pres, Fox News (Oct. 9, 2025), https://www.foxnews.com/us/blue-city-officers-open-feds-help-fighting-crime-crisis-leaders-spew-anti-police-rhetoric-union-pres (“Camilla Wamsley, director of Portland's ICE office, previously told Fox News that the agency's facility has been confronted with violence for over 100 straight nights[.]”).

³ Anarchists and Rioters in Portland Illegally Dox ICE Officers and Federal Law Enforcement, DHS.GOV (Jul. 11, 2025), https://www.dhs.gov/news/2025/07/11/anarchists-and-rioters-portland-illegally-dox-ice-officers-and-federal-law.

⁴ DHS Issues Statement on Targeted Attack on Dallas ICE Facility, DHS.GOV (Sept. 24, 2025), https://www.dhs.gov/news/2025/09/24/dhs-issues-statement-targeted-attack-dallas-ice-facility (Documenting attack on ICE Facility in Texas). A second detainee later died from his injuries. A 2nd detainee—a father of 4—dies after a gunman opened fire at an ICE office in Dallas, CNN (Sept. 30, 2025), https://www.cnn.com/2025/09/30/us/dallas-ice-facility-shooting-detainee-dies.

⁵ UPDATE: DHS Deploys Special Operations After Multiple Violent Attacks on Federal Law Enforcement by Domestic Terrorists in Chicago, DHS.GOV (Oct. 4, 2025), https://www.dhs.gov/news/2025/10/04/update-dhs-deploys-special-operations-after-multiple-violent-attacks-federal-law (Documenting an attack against CBP officials in Chicago).

⁶ Memorandum for the Director of the Federal Bureau of Investigation, Ending Political Violence Against ICE (Sept. 29, 2025) (citations and quotations omitted), available at https://www.justice.gov/opa/pr/attorney-general-bondi-issues-memo-ending-political-violence-against-ice.

DHS must immediately address this cascade of violence, which is threatening the lives of federal law enforcement officers and the safety of federal property on a daily basis. Accordingly, the Department is moving up the effective date of the June 2025 rule.

For a summary of the statutory and regulatory findings and analyses regarding this rulemaking, please refer to the findings and analyses published in the June 2025 rule and the January 1, 2025 proposed rule at 90 FR 4398, which are adopted herein.

List of Subjects in 6 CFR Part 139

Aircraft, Alcohol and alcoholic beverages, Animals, Buildings and facilities, Civil disorders, Crime, Explosives, Federal buildings and facilities, Firearms, Gambling, Government employees, Government property, Government property management, Homeland Security, Law enforcement, Law enforcement officers, Penalties, Public buildings, Safety, Security measures, Terrorism, Tobacco, Unmanned aircraft.

For the reasons set forth in the preamble, DHS amends 6 CFR part 139 as follows:

PART 139—CONDUCT ON FEDERAL PROPERTY

1. The authority citation for part 139 continues to read as follows:

Authority: 6 U.S.C. 203(3) and 232(a); 40 U.S.C. 586(c) and 1315.

2. In § 139.5, revise paragraph (e) to read as follows:

§ 139.5 Scope, applicability, and agency cooperation.

* * * * *

(e) Effective Date. The regulations in this part are effective Nov. 5, 2025.

Kristi Noem,
Secretary of Homeland Security.

[FR Doc. 2025-19793 Filed 11-4-25; 8:45 am]

BILLING CODE 9111-CC-P